DEPARTMENT OF DEFENSE

Department of the Navy

[Docket ID: USN-2024-HQ-0005]

Submission for OMB Review; Comment Request

AGENCY: Department of the Navy (DoN), Department of Defense (DoD).

ACTION: 30-Day information collection notice.

SUMMARY: The DoD has submitted to the Office of Management and Budget (OMB) for clearance the following proposal for collection of information under the provisions of the Paperwork Reduction Act.

DATES: Consideration will be given to all comments received by September 4, 2024.

ADDRESSES: Written comments and recommendations for the proposed information collection should be sent within 30 days of publication of this notice to www.reginfo.gov/public/do/PRAMain. Find this particular information collection by selecting “Currently under 30-day Review—Open for Public Comments” or by using the search function.

FOR FURTHER INFORMATION CONTACT: Reginald Lucas, (571) 372-7574, whs.mc-alex.esd.mbx.dd-dod-information-collections@mail.mil.

SUPPLEMENTARY INFORMATION:

Title; Associated Form; and OMB Number: Male Survivors of Sexual Assault—Investigating Challenges Around Seeking Help (MOSAIC); OMB Control Number 0703-MSIC.

Type of Request: New collection.

MOSAIC study online sign-up form.

Number of Respondents: 20.

Responses per Respondent: 1.

Annual Responses: 20.

Average Burden per Response: 10 minutes.

Annual Burden Hours: 3.33 hours.

Mosaic Study Interview

Number of Respondents: 20.

Responses per Respondent: 1.

Annual Responses: 20.

Average Burden per Response: 1 hour.

Annual Burden Hours: 20.

Total

Number of Respondents: 20.

Annual Responses: 40.

Annual Burden Hours: 23.

Needs and Uses: Given the devastating effects of Military Sexual Trauma (MST) and limited information on male MST specifically, the U.S. Congress specified a requirement to improve the prevention of and response to sexual trauma affecting male service members in the National Defense Authorization Act for Fiscal Year 2016 (Pub. L. 114-92). Furthermore, the DoD developed a formalized plan of action to improve prevention and response efforts for male MST. Despite these efforts and consistent with prior research, DoD reports found that active duty men are substantially less likely to report MST relative to active duty women counterparts. As part of the DoD-wide effort to promote help-seeking for sexual assault survivors, the DoN Office of Force Resiliency (OFR) developed and recently updated the Prevention Plan of Action (PPoA) (aka Prevention Plan of Action 2.0, 2022-2024; PPoA 2.0). The PPoA 2.0 is a strategy framework leveraging public health science in military environments to prevent sexual assault in the military and improve response efforts. As part of this initiative, OFR commissioned this study (Agreement #NMR-24-11717) to investigate the help-seeking among men who experienced military sexual violence (i.e., sexual assault or sexual harassment). The present study addresses this requirement by conducting interviews with men who have experienced military sexual violence.

Affected Public: Individuals or households.

Frequency: Once.

Respondent's Obligation: Voluntary.

OMB Desk Officer: Ms. Jasmeet Seehra.

You may also submit comments and recommendations, identified by Docket ID number and title, by the following method:

• Federal eRulemaking Portal: http://www.regulations.gov. Follow the instructions for submitting comments.

Instructions: All submissions received must include the agency name, Docket ID number, and title for this Federal Register document. The general policy for comments and other submissions from members of the public is to make these submissions available for public viewing on the internet at http://www.regulations.gov as they are received without change, including any personal identifiers or contact information.

DoD Clearance Officer: Mr. Reginald Lucas.

Requests for copies of the information collection proposal should be sent to Mr. Lucas at whs.mc-alex.esd.mbx.dd-dod-information-collections@mail.mil.

Dated: July 30, 2024.
Aaron T. Siegel,
Alternate OSD Federal Register Liaison Officer, Department of Defense.

[FR Doc. 2024-17178 Filed 8-2-24; 8:45 am]

BILLING CODE 3810-FF-P